DEPARTMENT OF ENERGY

Federal Energy Regulatory Commission

Combined Notice of Filings # 1

Take notice that the Commission received the following electric rate filings:

Docket Numbers: ER97-3834-029; ER05-1469-007.

Applicants: DTE Energy Trading, Inc., DTE East China, LLC.

Description: Notice of Change in Status of DTE Energy Trading, Inc., et. al.

Filed Date: 02/16/2011.

Accession Number: 20110216-5126.

Comment Date: 5 p.m. Eastern Time on Wednesday, March 9, 2011.

Docket Numbers: ER10-2497-002.

Applicants: Alliant Energy Corporate Services, Inc.

Description: Alliant Energy Corporate Services, Inc. Notice of Change in Status.

Filed Date: 02/16/2011.

Accession Number: 20110216-5087.

Comment Date: 5 p.m. Eastern Time on Wednesday, March 9, 2011.

Docket Numbers: ER11-2224-002.

Applicants: New York Independent System Operator, Inc.

Description: New York Independent System Operator, Inc. submits tariff filing per 35: Compliance Filing—ICAP Demand Curve Interim Values to be effective 5/1/2011.

Filed Date: 02/17/2011.

Accession Number: 20110217-5027.

Comment Date: 5 p.m. Eastern Time on Thursday, March 10, 2011

Docket Numbers: ER11-2587-001.

Applicants: J. Aron & Company.

Description: J. Aron & Company submits tariff filing per 35: J. Aron & Company Substitute First Revised MBR Tariff to be effective 2/28/2011.

Filed Date: 02/16/2011.

Accession Number: 20110216-5102.

Comment Date: 5 p.m. Eastern Time on Wednesday, March 9, 2011.

Docket Numbers: ER11-2741-001.

Applicants: CPV Batesville, LLC.

Description: CPV Batesville, LLC submits tariff filing per 35.17(b): Amendment to Market-Based Rate Application to be effective 2/1/2011.

Filed Date: 02/16/2011.

Accession Number: 20110216-5112.

Comment Date: 5 p.m. Eastern Time on Wednesday, March 9, 2011.

Docket Numbers: ER11-2831-000.

Applicants: Midwest Independent Transmission System Operator, Inc.

Description: Midwest Independent Transmission System Operator, Inc. submits tariff filing per 35: 2-3-11 Att. L and Mod A unsecured credit to be effective 4/5/2011.

Filed Date: 02/03/2011.

Accession Number: 20110203-5130.

Comment Date: 5 p.m. Eastern Time on Thursday, February 24, 2011.

Docket Numbers: ER11-2884-000.

Applicants: Alex Energy LLC.

Description: Alex Energy LLC submits a notice of cancellation.

Filed Date: 02/11/2011.

Accession Number: 20110211-0049.

Comment Date: 5 p.m. Eastern Time on Friday, March 4, 2011.

Docket Numbers: ER11-2898-000.

Applicants: PJM Interconnection, L.L.C.

Description: PJM Interconnection, L.L.C. submits tariff filing per 35.13(a)(2)(iii: Load Management Market Rule Changes to be effective 4/18/2011.

Filed Date: 02/16/2011.

Accession Number: 20110216-5098.

Comment Date: 5 p.m. Eastern Time on Wednesday, March 9, 2011.

Docket Numbers: ER11-2899-000.

Applicants: California Independent System Operator Corporation.

Description: California Independent System Operator Corporation submits tariff filing per 35.13(a)(2)(iii: 2011-02-16 CAISO's Errata to BrightSource LGIA Amendments to be effective 1/26/2011.

Filed Date: 02/16/2011.

Accession Number: 20110216-5101.

Comment Date: 5 p.m. Eastern Time on Wednesday, March 9, 2011.

Docket Numbers: ER11-2900-000.

Applicants: Midwest Independent Transmission System Operator, Inc.

Description: Midwest Independent Transmission System Operator, Inc. submits tariff filing per 35.13(a)(2)(iii: G132 LGIA filing to be effective 2/18/2011.

Filed Date: 02/17/2011.

Accession Number: 20110217-5025.

Comment Date: 5 p.m. Eastern Time on Thursday, March 10, 2011.

Docket Numbers: ER11-2901-000.

Applicants: Duke Energy Kentucky, Inc.

Description: Duke Energy Kentucky, Inc. submits tariff filing per 35.13(a)(2)(iii: MBR Tariff Amendments to be effective 4/18/2011.

Filed Date: 02/17/2011.

Accession Number: 20110217-5050.

Comment Date: 5 p.m. Eastern Time on Thursday, March 10, 2011.

Docket Numbers: ER11-2902-000.

Applicants: Duke Energy Indiana, Inc.

Description: Duke Energy Indiana, Inc. submits tariff filing per 35.13(a)(2)(iii: MBR Tariff Amendments to be effective 4/18/2011.

Filed Date: 02/17/2011.

Accession Number: 20110217-5051.

Comment Date: 5 p.m. Eastern Time on Thursday, March 10, 2011.

Docket Numbers: ER11-2903-000.

Applicants: Midwest Independent Transmission System Operator, Inc.

Description: Midwest Independent Transmission System Operator, Inc. submits tariff filing per 35.13(a)(2)(iii: R34 LGIA Filing to be effective 2/18/2011.

Filed Date: 02/17/2011.

Accession Number: 20110217-5056.

Comment Date: 5 p.m. Eastern Time on Thursday, March 10, 2011.

Docket Numbers: ER11-2904-000.

Applicants: Settlers Trail Wind Farm, LLC.

Description: Settlers Trail Wind Farm, LLC submits tariff filing per 35.12: Settlers Trail Wind Farm, LLC, Market-Based Rate Tariff to be effective 2/17/2011.

Filed Date: 02/17/2011.

Accession Number: 20110217-5068.

Comment Date: 5 p.m. Eastern Time on Thursday, March 10, 2011.

Docket Numbers: ER11-2905-000.

Applicants: Pioneer Trail Wind Farm, LLC.

Description: Pioneer Trail Wind Farm, LLC submits tariff filing per 35.12: Pioneer Trail Wind Farm, LLC, Market-Based Rate Tariff to be effective 2/17/2011.

Filed Date: 02/17/2011.

Accession Number: 20110217-5069.

Comment Date: 5 p.m. Eastern Time on Thursday, March 10, 2011.

Docket Numbers: ER11-2906-000.

Applicants: New York Independent System Operator, Inc.

Description: New York Independent System Operator, Inc. submits tariff filing per 35.13(a)(2)(iii: 205 Filing—Measurement and Performance of SCRs, Aggregations, RIPs to be effective 4/11/2011.

Filed Date: 02/17/2011.

Accession Number: 20110217-5072.

Comment Date: 5 p.m. Eastern Time on Thursday, March 10, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: February 17, 2011.
Nathaniel J. Davis, Sr.,
Deputy Secretary.

[FR Doc. 2011-4236 Filed 2-24-11; 8:45 am]

BILLING CODE 6717-01-P